ENVIRONMENTAL PROTECTION AGENCY

[FRL-7110-3]

Agency Information Collection Activities: Submission for OMB Review; Comment Request; Voluntary Certification in Lieu of Chloroform Minimum Monitoring Requirements for Direct and Indirect Discharging Mills in the Bleached Papergrade Kraft and Soda Subcategory of the Pulp, Paper, and Paperboard Point Source Category

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Voluntary Certification in Lieu of Chloroform Minimum Monitoring Requirements for Direct and Indirect Discharging Mills in the Bleached Papergrade Kraft and Soda Subcategory of the Pulp, Paper, and Paperboard Point Source Category, EPA ICR No. 2015.01. The ICR describes the nature of the information collection and its expected burden and cost.

DATES: Comments must be submitted on or before December 31, 2001.

ADDRESSES: Send comments, referencing EPA ICR No. 2015.01 to the following addresses: Sandy Farmer, U.S. Environmental Protection Agency, Collection Strategies Division (Mail Code 2822), 1200 Pennsylvania Avenue, NW., Washington, DC 20460-0001; and to Office of Information and Regulatory Affairs, Office of Management Budget (OMB), Attention: Desk Officer for EPA, 725 17th Street, NW., Washington, DC 20503.

FOR FURTHER INFORMATION CONTACT: For a copy of the ICR contact Sandy Farmer at EPA by phone at (202) 260-2740, by email at farmer.sandy@epa.gov, or download a copy of the ICR off the Internet at http://www.epa.gov/icr and refer to EPA ICR No. 2015.01. For technical information about the collection contact Mr. Ahmar Siddiqui by telephone at (202) 260-1826, or by e-mail at siddiqui.ahmar@epa.gov.

SUPPLEMENTARY INFORMATION: Title: Voluntary Certification in Lieu of Chloroform Minimum Monitoring Requirements for Direct and Indirect Discharging Mills in the Bleached Papergrade Kraft and Soda Subcategory of the Pulp, Paper, and Paperboard Point Source Category (EPA ICR No. 2015.01). This is a new collection.

Abstract: The Environmental Protection Agency (EPA) imposed minimum monitoring requirements on bleached papergrade kraft and soda (subpart B) mills under 40 CFR part 430 as part of the final Cluster Rules promulgated on April 15, 1998. See 63 FR 18504. These provisions require direct and indirect discharging subpart B mills to monitor their effluent for certain pollutants, including chloroform, at specified frequencies. See 40 CFR 430.02. EPA is considering promulgating an amendment to the Cluster Rules to allow direct and indirect discharging subpart B mills, for a particular fiber line, to demonstrate compliance with applicable chloroform limitations and standards under 40 CFR part 430 in lieu of the minimum monitoring requirements specified in 40 CFR 430.02 by voluntarily certifying two sets of circumstances. EPA proposed that amendment on April 15, 1998. See 61 FR 18796. First, the mill would need to certify that the fiber line(s) in question is/are not using elemental chlorine or hypochlorite as bleaching agents. Second, the mill would need to certify that the fiber line(s) in question maintain(s) certain process and operating conditions that the facility has demonstrated achieve compliance with applicable chloroform limitations. (The proposed rule would require mills wishing to employ the certification alternative to monitor for chloroform at the minimum frequency required by 40 CFR 430.02 for at least two years prior to being eligible to make the certification discussed above.) EPA is also considering requiring participating mills to submit a brief report summarizing the results of the initial compliance demonstration period and subsequently submit periodic certifications confirming that the participating fiber line(s) continues to operate within the range of process and operating conditions documented during the initial compliance demonstration period.

The burden associated with these additional voluntary reporting requirements is expected to be offset by a substantial savings in burden and costs that would otherwise be incurred, pursuant to the minimum monitoring frequency and duration at 40 CFR 430.02, to comply with applicable chloroform effluent limitations and standards.

All data submitted by mills as part of the initial compliance demonstration and claimed as confidential business information (CBI) would be maintained pursuant to 40 CFR part 2 when EPA is the permitting authority, and pursuant to regulations governing such information when States are the permitting authorities.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on March 19, 2001 (66 FR 15424-15427). EPA received one comment, which is addressed in the ICR.

Burden Statement: The annual public reporting and recordkeeping burden for this voluntary collection of information is estimated to average six hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Operations that chemically pulp wood fiber using kraft or soda methods to produce bleached papergrade pulp, paperboard, coarse paper, tissue paper, fine paper, and/or paperboard.

Estimated Number of Respondents: 80.

Frequency of Response: not less than annually for direct dischargers and not less than twice annually for indirect dischargers.

Estimated Total Annual Hour Burden: 480 hours.

Estimated Total Annualized Cost Burden (non-labor costs): $0.

Send comments on the Agency's need for this information, the accuracy of the provided burden estimates, and any suggested methods for minimizing respondent burden, including through the use of automated collection techniques to the addresses listed above. Please refer to EPA ICR No. 2015.01 in any correspondence.

Dated: November 20, 2001.
Oscar Morales,
Director, Collection Strategies Division.

[FR Doc. 01-29652 Filed 11-28-01; 8:45 am]

BILLING CODE 6560-50-P